DEPARTMENT OF THE TREASURY

Office of Foreign Assets Control

Unblocking of Specially Designated Nationals And Blocked Persons Pursuant to Executive Order 12978

AGENCY: Office of Foreign Assets Control, Treasury.

ACTION: Notice.

SUMMARY: The Department of the Treasury's Office of Foreign Assets Control (OFAC) is publishing the names of the five individuals and three entities whose property and interests in property have been unblocked pursuant to Executive Order 12978 of October 21, 1995, “Blocking Assets and Prohibiting Transactions With Significant Narcotics Traffickers”. Additionally, OFAC is publishing an update to the name of one individual currently included in the list of Specially Designated Nationals and Blocked Persons (SDN List).

DATES: The unblocking and removal from the list of Specially Designated Nationals and Blocked Persons (SDN List) of the five individuals and three entities identified in this notice whose property and interests in property were blocked pursuant to Executive Order 12978 of October 21, 1995, is effective on April 28, 2015. Additionally, the update to the SDN List of the individual identified in this notice is also effective on April 28, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On April 28, 2015, the Associate Director of the Office of Global Targeting removed from the SDN List the individuals and entities listed below, whose property and interests in property were blocked pursuant to the Order:

Individuals

1. ESPITIA PINILLA, Ricardo, Bogota, Colombia; DOB 26 Apr 1962; POB Colombia; nationality Colombia; citizen Colombia; Cedula No. 19483017 (Colombia); Passport AI264250 (Colombia) (individual) [SDNT].

2. MAFLA POLO, Jose Freddy, Carrera 4 No. 11-45 Ofc. 503, Cali, Colombia; Calle 52N No. 5B-111, Cali, Colombia; Carrera 11 No. 46-24 Apt. 201, Cali, Colombia; Carrera 11 No. 46-26, Cali, Colombia; c/o COMPANIA DE FOMENTO MERCANTIL S.A., Cali, Colombia; c/o PARQUE INDUSTRIAL PROGRESO S.A., Yumbo, Colombia; c/o CONSTRUCCIONES PROGRESO DEL PUERTO S.A., Puerto Tejada, Colombia; c/o GEOPLASTICOS S.A., Cali, Colombia; c/o J. FREDDY MAFLA Y CIA. S.C.S., Cali, Colombia; POB Cali, Valle, Colombia; Cedula No. 16689935 (Colombia); Passport 16689935 (Colombia) (individual) [SDNT].

3. MORENO FERNANDEZ, Monica, c/o RUIZ DE ALARCON 12 S.L., Madrid, Spain; Spain; DOB 20 Apr 1963; nationality Colombia; citizen Colombia; Cedula No. 31903968 (Colombia); Passport AG744728 (Colombia); alt. Passport AE613367 (Colombia); National Foreign ID Number X3881333Z (Spain) (individual) [SDNT].

4. MARIN ZAMORA, Jaime Alberto (a.k.a. “BETO MARIN”), c/o PLASTEC LTDA., Colombia; Carrera 13A No. 1A-139, Armenia, Quindio, Colombia; Avenida San Martin 4-46, Bocagrande, Cartagena, Colombia; DOB 22 Jul 1964; POB Quimbaya, Quindio, Colombia; citizen Colombia; Cedula No. 7544228 (Colombia); Passport AF595263 (Colombia); alt. Passport AD380146 (Colombia) (individual) [SDNT].

5. ANDRADE QUINTERO, Ancizar, c/o INMOBILIARIA BOLIVAR LTDA., Cali, Colombia; c/o INMOBILIARIA U.M.V. S.A., Cali, Colombia; c/o SERVICIOS INMOBILIARIAS LTDA., Cali, Colombia; DOB 23 Jan 1962; Cedula No. 16672464 (Colombia) (individual) [SDNT].

Entities

1. J. FREDDY MAFLA Y CIA. S.C.S., Carrera 4 No. 11-45 Ofc. 503, Cali, Colombia; NIT #800020482-4 (Colombia) [SDNT].

2. PLASTEC LTDA., Km. 1 Via Jardines, Armenia, Quindio, Colombia; NIT #801000358-7 (Colombia) [SDNT].

3. GAVIRIA MOR Y CIA. LTDA., Calle 16 No. 11-82 Ofc. 302, Girardot, Colombia; NIT #800212771-2 (Colombia) [SDNT].

Additionally, on April 28, 2015, the Associate Director of the Office of Global Targeting updated the SDN record for the individual listed below, whose property and interests in property continue to be blocked pursuant to Executive Order 12978:

Individual

1. MALDONADO ESCOBAR, Fernando; DOB 16 May 1961; POB Bogota, Colombia; Cedula No. 19445721 (Colombia); Passport AH330349 (Colombia) (individual) [SDNT] (Linked To: AUDITORES ESPECIALIZADOS LTDA.; Linked To: AQUAMARINA ISLAND INTERNATIONAL CORPORATION).

Dated: April 28, 2015.
Gregory T. Gatjanis,
Associate Director, Office of Global Targeting, Office of Foreign Assets Control.

[FR Doc. 2015-10455 Filed 5-4-15; 8:45 am]

BILLING CODE 4810-AL-P